DEPARTMENT OF COMMERCE

National Oceanic and Atmospheric Administration

[I.D. 102505C]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held November 14 - 17, 2005. The Southeastern Data and Review (SEDAR) Committee will be convened in a closed session conference call on November 9, 2005.

ADDRESSES: These meetings will be held at the Ramada Plaza Beach Resort, 1500 Miracle Strip Parkway, SE, Fort Walton Beach, FL 32548.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, November 16, 2005

8:30 a.m. - Convene.

8:45 a.m. - 9 a.m. - Appointment of Committee Members.

9 a.m. - 11:30 a.m. - Receive public testimony on (a) Final Reef Fish Amendment 26 (Red Snapper Individual Fishing Quota (IFQ), (b) Final Red Grouper Regulatory Amendment, and (c) Exempted fishing permits (if any).

1 p.m. - 3 p.m. - Receive the Reef Fish Management Committee Report.

3 p.m. - 5 p.m. - Receive the joint Reef Fish/Shrimp Management Committees Report.

5 p.m. - 5:30 p.m. - Receive the Advisory Panel (AP) Selection Committee Report (Closed Session).

5:30 p.m. - 5:45 p.m. - Receive the SEDAR Committee Report (Closed Session).

Thursday, November 17, 2005

8:30 a.m. - 8:45 a.m. - Receive the AP Selection Committee Report.

8:45 a.m. - 9 a.m. - Receive the SEDAR Committee Report.

9 a.m. - 9:30 a.m. - Receive the Budget/Personnel Committee Report.

9:30 a.m. - 9:45 a.m. - Receive the Sustainable Fisheries/Ecosystem Committee Report.

9:45 a.m. - 10 a.m. - Receive the Law Enforcement Committee Report.

10 a.m. - 10:45 a.m. - Receive the Administrative Policy Committee Report.

10:45 a.m. - 11 a.m. - Receive the joint Reef Fish/Mackerel/Red Drum Committees Report.

11 a.m. - 11:15 a.m. - Receive the Council Chairs Meeting Report.

11:15 a.m. - 11:30 a.m. - Receive the International Commission for the Conservation of Atlantic Tunas (ICCAT) Advisory Committee Report.

11:30 a.m. - 11:45 a.m. - Receive the Enforcement Reports.

11:45 a.m. - 12 noon - Receive the Regional Administrator's Report.

12 noon - 12:30 p.m. - Receive the State Director's Reports.

12:30 p.m. - 12:45 p.m. - Other Business.

Committee

Wednesday, November 9, 2005

2 p.m. - The SEDAR Committee will be convened in a closed session conference call to discuss participants for the SEDAR 10 Workshops for Gag Grouper and develop recommendations for Council. Immediately following, the AP Selection Committee will convene via closed session conference call to discuss appointments to the Ad Hoc Grouper IFQ AP and make recommendations to Council.

Monday, November 14, 2005

8:30 a.m. - 10 a.m. - The Budget/Personnel Committee will meet to review Family Medical Leave Act (FMLA) revisions to the Statement of Organization Practices and Procedures (SOPPS) and make recommendations to Council.

10 a.m. - 10:30 a.m. - The Committees will hear a presentation on the NOAA Fishery Capacity.

10:30 a.m. - 12 noon - The joint Reef Fish/Mackerel/Red Drum committee will meet to discuss Aquaculture Amendment Alternatives.

1:30 p.m. - 5:30 p.m. - The Reef Fish Management Committee will review public hearing summaries, public letters, AP recommendations, Scientific and Statistical Committee (SSC) recommendations, Federal recommendations and committee recommendations on Final Reef Fish Amendment 26 for a Red Snapper IFQ program and make recommendations to Council. The Committee will then review a draft Red Grouper Regulatory Amendment for the Recreational Sector. The Committee will hear a report on the Industry Business Plan for the Longline Buy-Back Program.

Tuesday, November 15, 2005

8:30 a.m. - 12 noon - The joint Reef Fish/Shrimp Management Committees will review a scoping document for a joint Reef Fish/Shrimp amendment targeted at reducing shrimp trawl by-catch; by-catch in the directed reef fish fishery; and effort limitation alternatives for the shrimp fishery. The Committees will then review an Options Paper for a Red Snapper Regulatory Amendment to set total allowable catch (TAC) & Measures which will include discussion of Red Snapper Management Scenarios and discussion of the SSC recommendations. The Committees will review a draft Regulatory Amendment on By-catch Reduction Devices (BRDs) certification criterion and certification of new BRDs.

1:30 p.m. - 2:30 p.m. - The joint Reef Fish/Shrimp Management Committee will reconvene to complete their work.

2:30 p.m. - 4:30 p.m. - The Sustainable Fisheries/Ecosystem Committee will hear a report on the Ecosystem Workshops held in August 2005, hear a status report on the preparation of an Ecosystem Amendment, and discuss the effects of Hurricane Katrina on the Ecosystem.

4:30 p.m. - 5:30 p.m. - The Law Enforcement Committee will review the Operations Plan for 2006 and discuss other issues from the October Law Enforcement Advisory Panel (LEAP) meeting.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency.

The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) at least 5 working days prior to the meeting.

Dated: October 25, 2005.
Tracey L. Thompson,

[FR Doc. E5-5981 Filed 10-27-05; 8:45 am]

BILLING CODE 3510-22-S